DEPARTMENT OF TRANSPORTATION

Federal Aviation Administration

14 CFR Part 39

[Docket No. FAA-2006-23883; Directorate Identifier 2006-CE-12-AD]

RIN 2120-AA64

Airworthiness Directives; Mitsubishi Heavy Industries MU-2B Series Airplanes

AGENCY: Federal Aviation Administration (FAA), Department of Transportation (DOT).

ACTION: Notice of proposed rulemaking (NPRM).

SUMMARY: The FAA proposes to adopt a new airworthiness directive (AD) for certain Mitsubishi Heavy Industries (MHI) MU-2B series airplanes. This proposed AD would require you to incorporate power assurance charts into the Limitations Section of the Airplane Flight Manual (AFM), inspect the engine torque indication system, and recalibrate the torque pressure transducers as required. This proposed AD results from a recent safety evaluation that used a data-driven approach to analyze the design, operation, and maintenance of the MU-2B series airplanes in order to determine their safety and define what steps, if any, are necessary for their safe operation. Part of that evaluation was the identification of unsafe conditions that exist or could develop on the affected type design airplanes. We are issuing this proposed AD to detect and correct torque transducers that are out of calibration. The above issue, if uncorrected, could result in degraded performance and poor handling qualities with consequent loss of control of the airplane in certain situations.

DATES: We must receive comments on this proposed AD by June 15, 2006.

ADDRESSES: Use one of the following addresses to comment on this proposed AD:

• DOT Docket Web site: Go to http://dms.dot.gov and follow the instructions for sending your comments electronically.

• Government-wide rulemaking Web site: Go to http://www.regulations.gov and follow the instructions for sending your comments electronically.

• Mail: Docket Management Facility; U.S. Department of Transportation, 400 Seventh Street, SW., Nassif Building, Room PL-401, Washington, DC 20590-0001.

• Fax: 1-202-493-2251.

• Hand Delivery: Room PL-401 on the plaza level of the Nassif Building, 400 Seventh Street, SW., Washington, DC, between 9 a.m. and 5 p.m., Monday through Friday, except Federal holidays.

Contact Mitsubishi Heavy Industries, Ltd., 4951 Airport Parkway, Suite 800, Addison, Texas 75001; telephone: (972) 934-5480; facsimile: (972) 934-5488 for the service information identified in this proposed AD.

You may examine the comments on this proposed AD in the AD docket on the Internet at http://dms.dot.gov.

FOR FURTHER INFORMATION CONTACT: Rao Edupuganti, Aerospace Engineer, ASW-150, Fort Worth Aircraft Certification Office, 2601 Meacham Blvd., Fort Worth, Texas 76193; telephone: (817) 222-5284; facsimile: (817) 222-5960.

SUPPLEMENTARY INFORMATION:

Comments Invited

How do I comment on this proposed AD? We invite you to send any written relevant data, views, or arguments regarding this proposal. Send your comments to an address listed under ADDRESSES. Include the docket number, “FAA-2006-23883; Directorate Identifier 2006-CE-12-AD” at the beginning of your comments. We specifically invite comments on the overall regulatory, economic, environmental, and energy aspects of the proposed AD. We will consider all comments received by the closing date and may amend the proposed AD in light of those comments.

We will post all comments we receive, without change, to http://dms.dot.gov, including any personal information you provide. We will also post a report summarizing each substantive verbal contact with FAA personnel concerning this proposed rulemaking. Using the search function of the DOT docket web site, anyone can find and read the comments received into any of our dockets, including the name of the individual who sent the comment (or signed the comment on behalf of an association, business, labor union, etc.). You may review the DOT's complete Privacy Act Statement in the Federal Register published on April 11, 2000 (65 FR 19477-78) or you may visit http://dms.dot.gov.

Discussion

Recent accidents and the service history of the Mitsubishi MU-2B series airplanes prompted FAA to conduct an MU-2B Safety Evaluation. This evaluation used a data-driven approach to analyze the design, operation, and maintenance of the MU-2B series airplanes in order to determine their safety and define what steps, if any, are necessary for their safe operation.

The safety evaluation provided an in-depth review and analysis of MU-2B accidents, incidents, safety data, pilot training requirements, engine reliability, and commercial operations. In conducting this evaluation, the team employed new analysis tools that provided a much more detailed root cause analysis of the MU-2B problems than was previously possible.

Part of that evaluation was the identification of unsafe conditions that exist or could develop on the affected type design airplanes. Some torque transducers were found significantly out of calibration. This could result in a safety of flight condition where an actual power mismatch exists that is not indicated on the engine instruments. In addition, an indicated power that is higher or lower than actual power could result.

This condition, if not corrected, could result in degraded performance and poor handling qualities with loss of control of the airplane in certain situations.

Relevant Service Information

We have reviewed the following MHI service information:

• Service Bulletin No. 233A, dated January 14, 1999; and

• Service Bulletin No. 095/77-002, dated July 15, 1998.

The service information describes procedures for inspecting the engine torque indication system and recalibrating the torque pressure transducers as required.

Foreign Airworthiness Authority Information

The MU-2B series airplane was initially certificated in 1965 and again in 1976 under two separate type certificates that consist of basically the same type design. Japan is the State of Design for type certificate (TC) No. A2PC, and the United States is the State of Design for TC No. A10SW. The affected models are as follows (where models are duplicated, specific serial numbers are specified in the individual TCs):

Type certificate | Affected models
A10SW | MU-2B-25, MU-2B-26, MU-2B-26A, MU-2B-35, MU-2B-36, MU-2B-36A, MU-2B-40, and MU-2B-60.
A2PC | MU-2B, MU-2B-10, MU-2B-15, MU-2B-20, MU-2B-25, MU-2B-26, MU-2B-30, MU-2B-35, and MU-2B-36.

The Japan Civil Aviation Bureau, the airworthiness authority for Japan, issued Japanese AD No. TCD 4889-98, dated January 14, 1999, to ensure the continued airworthiness of the airplanes in Japan.

FAA's Determination and Requirements of the Proposed AD

We are proposing this AD to address unsafe conditions that we determined are likely to exist or develop on other products of this same type design. The proposed AD would require you to inspect the engine torque indication system and recalibrate the torque pressure transducers if required.

The Agency is committed to updating the aviation community of expected costs associated with the MU-2B series airplane safety evaluation conducted in 2005. As a result of that commitment, the accumulating expected costs of all ADs related to the MU-2B series airplane safety evaluation may be found in the Final Report section at the following Web site: http://www.faa.gov/aircraft/air_cert/design_approvals/small_airplanes/cos/mu2_foia_reading_library/.

Costs of Compliance

We estimate that this proposed AD affects 397 airplanes in the U.S. registry.

We estimate the following costs to accomplish these proposed inspections:

Labor cost | Parts cost | Total cost per airplane | Total cost on U.S. operators
5 workhours × $80 = $400 | Not applicable | $400 | $158,800

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD. See the ADDRESSES section for a location to examine the regulatory evaluation.

Examining the Dockets

You may examine the docket that contains the proposal, any comments received and any final disposition on the Internet at http://dms.dot.gov, or in person at the DOT Docket Offices between 9 a.m. and 5 p.m., Monday through Friday, except Federal holidays. The Docket Office (telephone 1-800-647-5227) is located on the plaza level of the Department of Transportation NASSIF Building at the street address stated in ADDRESSES. Comments will be available in the AD docket shortly after the Docket Management Facility receives them.

List of Subjects in 14 CFR Part 39

Air transportation, Aircraft, Aviation safety, Safety.

The Proposed Amendment

Accordingly, under the authority delegated to me by the Administrator, the Federal Aviation Administration proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

Mitsubishi Heavy Industries: Docket No. FAA-2006-23883; Directorate Identifier 2006-CE-12-AD.

Comments Due Date

(a) The Federal Aviation Administration (FAA) must receive comments on this proposed airworthiness directive (AD) action by June 15, 2006.

Affected ADs

(b) None.

Applicability

(c) This AD affects the following airplane models and serial numbers that are certificated in any category:

Table 1.—Applicability
Type certificate | Models | Serial Nos.
(1) A2PC | MU-2B, MU-2B-10, MU-2B-15, MU-2B-20, MU-2B-25, MU-2B-26, MU-2B-30, MU-2B-35, and MU-2B-36 | 008 through 312, 314 through 320, and 322 through 347.
(2) A2PC | MU-2B-30, MU-2B-35, and MU-2B-36 | 501 through 651, 653 through 660, and 662 through 696.
(3) A10SW | MU-2B-25, MU-2B-26, MU-2B-26A, and MU-2B-40 | 313SA, 321SA, and 348SA through 459SA.
(4) A10SW | MU-2B-35, MU-2B-36, MU-2B-36A, and MU-2B-60 | 652SA, 661SA, and 697SA through 1569SA.

Unsafe Condition

(d) This AD results from a recent safety evaluation that used a data-driven approach to analyze the design, operation, and maintenance of the MU-2B series airplanes in order to determine their safety and define what steps, if any, are necessary for their safe operation. Part of that evaluation was the identification of unsafe conditions that exist or could develop on the affected type design airplanes. The actions specified in this AD are intended to detect and correct torque transducers that are out of calibration. The above issue, if uncorrected, could result in degraded performance and poor handling qualities and lead to loss of control of the airplane in certain situations.

Compliance

(e) To address this problem, you must do the following:

Table 2.—Actions/Compliance/Procedures
Actions | Compliance | Procedures
(1) Incorporate the following pages from the Airplane Flight Manual (AFM) charts listed in TABLE 3.—AFM INSERTION PAGES, paragraph (f) of this AD, into the Limitations Section of the FAA-approved AFM | Within 100 hours time-in-service (TIS) after the effective date of this AD | The owner/operator holding at least a private pilot certificate as authorized by section 43.7 of the Federal Aviation Regulations (14 CFR 43.7) may do the flight manual changes requirement of this AD. Make an entry into the aircraft records showing compliance with this portion of the AD in accordance with section 43.9 of the Federal Aviation Regulations (14 CFR 43.9).
(2) Inspect the engine torque indication system and recalibrate the torque pressure transducers as required. This inspection requires the use of the power assurance charts referenced in paragraph (e)(1) of this AD and in TABLE 3, paragraph (f) of this AD | Within 100 hours TIS after the effective date of this AD | (i) For airplanes listed in Type Certificate No. A2PC follow Mitsubishi Heavy Industries, Ltd. (MHI) Service Bulletin No. 233A, dated January 14, 1999. (ii) For airplanes listed Type Certificate No. A10SW follow MHI Service Bulletin No. 095/77-002, dated July 15, 1998.

(f) Use the following power assurance charts when doing the ground check portion of the inspection required in paragraph (e)(2) of this AD.

Table 3.—AFM Insertion Pages
Model of airplane affected | Date and version of AFM | Page number from AFM
(i) MU-2B | AFM, Section 6, Revision 9, dated January 14, 1999 | 6-34
(ii) MU-2B-15 | AFM, Section 6, Revision 9, dated January 14, 1999 | 6-19
(iii) MU-2B-20 | AFM, Section 6, Revision 9, dated January 14, 1999 | 6-20
(iv) MU-2B-25 | AFM, Section 6, Reissued March 25, 1986 | 6-18 and 6-19
(v) MU-2B-26 | AFM, Section 6, Reissued March 25, 1986 | 6-17 and 6-18
(vi) MU-2B-26A | AFM, Section 6, Reissued March 25, 1986 | 6-17 and 6-18
(vii) MU-2B-35 | AFM, Section 6, Reissued March 25, 1986 | 6-18 and 6-19
(viii) MU-2B-36A | AFM, Section 6, Reissued February 28, 1986 | 6-20 and 6-21
(ix) MU-2B-40 | AFM, Section 6, Reissued March 25, 1986 | 6-17 and 6-18
(x) MU-2B-60 | AFM, Section 6, Reissued September 24, 1985 | 6-19 and 6-20
(xi) MU-2B-10 | AFM, Section 6, Revision 9, dated January 14, 1999 | 6-19
(xii) MU-2B-30 | AFM, Section 6, Revision 10, dated January 14, 1999 | 6-19
(xiii) MU-2B-36 | AFM, Section 6, Revision 9, dated January 14, 1999 | 6-20

Alternative Methods of Compliance (AMOCs)

(g) The Manager, Fort Worth Aircraft Certification Office, FAA, has the authority to approve AMOCs for this AD, if requested using the procedures found in 14 CFR 39.19.

(h) For information on any already approved AMOCs or for information pertaining to this AD, contact Rao Edupuganti, Aerospace Engineer, ASW-150, Fort Worth ACO, 2601 Meacham Blvd., Fort Worth, Texas 76193; telephone: (817) 222-5284; facsimile: (817) 222-5960.

Related Information

(i) Japan Civil Aviation Bureau Airworthiness Directive No. TCD 4889-98, dated January 14, 1999; and MHI Service Bulletins No. 233A, dated January 14, 1999; and No. 095/77-002, dated July 15, 1998, also address the subject of this AD.

(j) To get copies of the documents referenced in this AD, contact Mitsubishi Heavy Industries, Ltd., 4951 Airport Parkway, Suite 800, Addison, Texas 75001; telephone: (972) 934-5480; facsimile: (972) 934-5488. To view the AD docket, go to the Docket Management Facility; U.S. Department of Transportation, 400 Seventh Street, SW., Nassif Building, Room PL-401, Washington, DC, or on the Internet at http://dms.dot.gov. The docket number is Docket No. FAA-2006-23883; Directorate Identifier 2006-CE-12-AD.

Issued in Kansas City, Missouri, on April 21, 2006.
Kim Smith,
Manager, Small Airplane Directorate, Aircraft Certification Service.

[FR Doc. E6-6419 Filed 4-27-06; 8:45 am]

BILLING CODE 4910-13-P